DEPARTMENT OF JUSTICE

Membership of the Senior Executive Service Standing Performance Review Boards

AGENCY: Department of Justice.

ACTION: Notice of Department of Justice's standing members of the Senior Executive Service Performance Review Boards.

SUMMARY: Pursuant to the requirements of 5 U.S.C. 4314(c)(4), the Department of Justice announces the membership of its 2012 Senior Executive Service (SES) Standing Performance Review Boards (PRBs). The purpose of a PRB is to provide fair and impartial review of SES performance appraisals, bonus recommendations and pay adjustments. The PRBs will make recommendations regarding the final performance ratings to be assigned, SES bonuses and/or pay adjustments to be awarded.

FOR FURTHER INFORMATION CONTACT: Terence L. Cook, Director, Human Resources, Justice Management Division, Department of Justice, Washington, DC 20530; (202) 514-4350.

Lee J. Lofthus,
Assistant Attorney General for Administration.

Name | Position title
Office of the Attorney General—OAG
GRINDLER, GARY | CHIEF OF STAFF.
DELERY, STUART | COUNSELOR TO THE ATTORNEY GENERAL.
GREENFELD, HELAINE ANN | COUNSELOR TO THE ATTORNEY GENERAL.
MORAN, MOLLY | COUNSELOR TO THE ATTORNEY GENERAL.
PHILLIPS, CHANNING | COUNSELOR TO THE ATTORNEY GENERAL.
RICHARDSON, MARGARET | DEPUTY CHIEF OF STAFF AND COUNSELOR.
Office of the Deputy Attorney General—ODAG
GOLDBERG, STUART | PRINCIPAL ASSOCIATE DEPUTY ATTORNEY GENERAL.
MARGOLIS, DAVID | ASSOCIATE DEPUTY ATTORNEY GENERAL.
BURROWS, CHARLOTTE | ASSOCIATE DEPUTY ATTORNEY GENERAL.
REICH, STEVEN | ASSOCIATE DEPUTY ATTORNEY GENERAL.
SCHOOLS, SCOTT N. | ASSOCIATE DEPUTY ATTORNEY GENERAL.
OHLSON, KEVIN A. | CHIEF, PROFESSIONAL MISCONDUCT REVIEW UNIT.
GOLDSMITH, ANDREW | NATIONAL CRIMINAL DISCOVERY COORDINATOR.
Office of the Associate Attorney General—OASG
TAYLOR, ELIZABETH GORDON | PRINCIPAL DEPUTY ASSOCIATE ATTORNEY GENERAL.
CHUN, A. MARISA | DEPUTY ASSOCIATE ATTORNEY GENERAL.
HIRSCH, SAMUEL | DEPUTY ASSOCIATE ATTORNEY GENERAL.
MCEVOY, JULIA | DEPUTY ASSOCIATE ATTORNEY GENERAL.
Office of the Solicitor General—OSG
SRINIVASAN, SHRIKANTH | PRINCIPAL DEPUTY SOLICITOR GENERAL.
DREEBEN, MICHAEL R. | DEPUTY SOLICITOR GENERAL.
KNEEDLER, EDWIN S. | DEPUTY SOLICITOR GENERAL.
STEWART, MALCOLM L. | DEPUTY SOLICITOR GENERAL.
Antitrust Division—ATR
WAYLAND, JOSEPH | PRINCIPAL DEPUTY ASSISTANT ATTORNEY GENERAL.
HAMMOND, SCOTT D. | DEPUTY ASSISTANT ATTORNEY GENERAL.
OVERTON, LESLIE | DEPUTY ASSISTANT ATTORNEY GENERAL.
O'SULLIVAN, CATHERINE G. | CHIEF, APPELLATE SECTION.
POTTER, ROBERT A. | CHIEF, LEGAL POLICY SECTION.
ARMINGTON, ELIZABETH J. | ECONOMIST ADVISOR.
BRINK, PATRICIA A. | ATTORNEY ADVISOR.
CONNOLLY, ROBERT E. | CHIEF, PHILADELPHIA FIELD OFFICE.
CURRIE, DUNCAN S. | CHIEF, DALLAS FIELD OFFICE.
DAVIS, NEZIDA S. | CHIEF, ATLANTA FIELD OFFICE.
FAMILANT, NORMAN | CHIEF, ECONOMIC LITIGATION SECTION.
HAND, EDWARD T. | CHIEF, FOREIGN COMMERCE SECTION.
KING, THOMAS D. | EXECUTIVE OFFICER.
KRAMER II, J. ROBERT | DIRECTOR OF OPERATIONS.
MAJURE, WILLIAM ROBERT | DIRECTOR OF ECONOMICS.
MCEVOY, DEIRDRE A. | CHIEF, NEW YORK FIELD OFFICE.
PETRIZZI, MARIBETH | CHIEF, LITIGATION II SECTION.
PHELAN, LISA M. | CHIEF, NATIONAL CRIMINAL ENFORCEMENT SECTION.
PRICE JR., MARVIN N. | CHIEF, CHICAGO FIELD OFFICE.
READ, JOHN R. | CHIEF, LITIGATION III SECTION.
SIEGEL, MARC | DIRECTOR OF CRIMINAL ENFORCEMENT.
TIERNEY, JAMES J. | CHIEF, NETWORKS AND TECHNOLOGY ENFORCEMENT SECTION.
MCSWEENY, TERRELL | SENIOR COUNSEL, COMPETITION POLICY.
WARREN, PHILLIP H. | CHIEF, SAN FRANCISCO FIELD OFFICE.
WATSON, SCOTT M. | CHIEF, CLEVELAND FIELD OFFICE.
WERDEN, GREGORY J. | ECONOMIST ADVISOR.
Bureau of Alcohol, Tobacco, Firearms, and Explosives—ATF
BRANDON, THOMAS E. | DEPUTY DIRECTOR.
TURK, RONALD B. | ASSISTANT DIRECTOR, FIELD OPERATIONS.
HERKINS, STEPHEN C. | DEPUTY ASSISTANT DIRECTOR, FIELD OPERATIONS (PROGRAMS).
GRAHAM, ZEBEDEE T. | DEPUTY ASSISTANT DIRECTOR, FIELD OPERATIONS-EAST.
GLEYSTEEN, MICHAEL P. | DEPUTY ASSISTANT DIRECTOR, FIELD OPERATIONS-CENTRAL.
MARTIN, STEPHEN K. | DEPUTY ASSISTANT DIRECTOR, FIELD OPERATIONS-WEST.
BOXLER, MICHAEL | DEPUTY DIRECTOR, TEDAC.
CHAIT, MARK R. | EXECUTIVE ASSISTANT TO THE DIRECTOR.
NEWELL, WILLIAM D. | SPECIAL ASSISTANT TO THE ASSISTANT DIRECTOR (MANAGEMENT).
HERBERT, ARTHUR W. | ASSISTANT DIRECTOR, ENFORCEMENT PROGRAM AND SERVICES.
CZARNOPYS, GREGORY P. | DEPUTY ASSISTANT DIRECTOR, FORENSIC SERVICES.
FICARETTA, TERESA G. | DEPUTY ASSISTANT DIRECTOR, ENFORCEMENT PROGRAM AND SERVICES.
HOLGATE, HENRY R. | ASSISTANT DIRECTOR, SCIENCE AND TECHNOLOGY/CIO.
MCDERMOND, JAMES E. | ASSISTANT DIRECTOR, OFFICE OF STRATEGIC INTELLIGENCE AND INFORMATION.
MCMAHON JR., WILLIAM G. | DEPUTY ASSISTANT DIRECTOR, OFFICE OF PROFESSIONAL RESPONSIBILITY AND SECURITY OPERATIONS.
MICHALIC, VIVIAN B. | DEPUTY ASSISTANT DIRECTOR, MANAGEMENT.
POTTER, MARK W. | ASSISTANT DIRECTOR, MANAGEMENT AND CHIEF FINANCIAL OFFICER.
STINNETT, MELANIE S. | DEPUTY CHIEF COUNSEL.
TORRES, JULIE | ASSISTANT DIRECTOR, OFFICE OF PROFESSIONAL RESPONSIBILITY AND SECURITY OPERATIONS.
TORRES, JOHN A. | DEPUTY ASSISTANT DIRECTOR, OFFICE OF STRATEGIC INTELLIGENCE AND INFORMATION.
RICHARDSON, MARVIN G. | DEPUTY ASSISTANT DIRECTOR, OFFICE OF PUBLIC AND GOVERNMENTAL AFFAIRS.
STOOP, THERESA R. | ASSISTANT DIRECTOR, HUMAN RESOURCES AND PROFESSIONAL DEVELOPMENT.
GOLD, VICTORIA | DEPUTY ASSISTANT DIRECTOR, IT/CIO.
LOOS, ELEANER R. | ASSOCIATE CHIEF COUNSEL, LITIGATION.
SWEETOW, SCOTT | SPECIAL AGENT IN CHARGE, ATLANTA.
THOMAS, GUY N. | SPECIAL AGENT IN CHARGE, BOSTON.
DIXIE, WAYNE | SPECIAL AGENT IN CHARGE, CHARLOTTE.
FORD, WILFRED L. | SPECIAL AGENT IN CHARGE, CHICAGO.
BROWNING, ROBERT J. | SPECIAL AGENT IN CHARGE, COLUMBUS.
CHAMPION, ROBERT R. | SPECIAL AGENT IN CHARGE, DALLAS.
TRAVER, ANDREW L. | SPECIAL AGENT IN CHARGE, DENVER.
MCCAIN, DAVID | SPECIAL AGENT IN CHARGE, DETROIT.
KING, MELVIN | SPECIAL AGENT IN CHARGE, HOUSTON.
BOGDALEK, STEVEN | SPECIAL AGENT IN CHARGE, LOS ANGELES.
BARRERA, HUGO J. | SPECIAL AGENT IN CHARGE, MIAMI.
ANDERSON, GLENN N. | SPECIAL AGENT IN CHARGE, NASHVILLE.
DURHAM, PHILLIP M. | SPECIAL AGENT IN CHARGE, NEW ORLEANS.
ANARUMO, JOSEPH | SPECIAL AGENT IN CHARGE, NEW YORK.
HORACE, MATTHEW W. | SPECIAL AGENT IN CHARGE, NEWARK.
MIXELL, SHEREE | SPECIAL AGENT IN CHARGE, PHILADELPHIA.
ATTEBERRY, THOMAS | SPECIAL AGENT IN CHARGE, PHOENIX.
RIEHL, JOSEPH M. | SPECIAL AGENT IN CHARGE, SAN FRANCISCO.
CRENSHAW, KELVIN N. | SPECIAL AGENT IN CHARGE, SEATTLE.
ZAPOR, BERNARD J. | SPECIAL AGENT IN CHARGE, ST. PAUL.
O'BRIEN, VIRGINIA T. | SPECIAL AGENT IN CHARGE, TAMPA.
Bureau of Prisons—BOP
SAMUELS JR., CHARLES E. | DIRECTOR.
KANE, THOMAS R. | DEPUTY DIRECTOR.
DALIUS JR., WILLIAM F. | ASSISTANT DIRECTOR, ADMINISTRATION DIVISION.
JOSLIN, DANIEL | ASSISTANT DIRECTOR, HUMAN RESOURCES MANAGEMENT DIVISION.
MITCHELL, MARY M. | ASSISTANT DIRECTOR, INDUSTRIES, EDUCATION AND VOCATIONAL TRAINING DIVISION.
MARBERRY, HELEN J. | ASISTANT DIRECTOR, PROGRAM REVIEW DIVISION.
SIBAL, PHILIP | SENIOR DEPUTY ASSISTANT DIRECTOR, INDUSTRIES, EDUCATION AND VOCATIONAL TRAINING DIVISION.
THIGPEN SR., MORRIS L. | DIRECTOR, NATIONAL INSTITUTE OF CORRECTIONS.
GROSS, BRADLEY T. | SENIOR DEPUTY ASSISTANT DIRECTOR, ADMINISTRATION DIVISION.
GARRETT, JUDITH | ASSISTANT DIRECTOR, INFORMATION, POLICY AND PUBLIC AFFAIRS DIVISION.
THOMPSON, SONYA | SENIOR DEPUTY ASSISTANT DIRECTOR, INFORMATION, POLICY AND PUBLIC AFFAIRS DIVISION.
HOLLEMBAEK, STEPHANIE | SENIOR DEPUTY ASSISTANT DIRECTOR, HEALTH SERVICES DIVISION.
HYLE, KENNETH | SENIOR DEPUTY GENERAL COUNSEL, OGC.
KENNEY, KATHLEEN M. | ASSISTANT DIRECTOR, OFFICE OF GENERAL COUNSEL.
KENDALL, PAUL F. | SENIOR COUNSEL, OGC.
DAVIS, BLAKE | ASSISTANT DIRECTOR, CORRECTIONAL PROGRAMS DIVISION.
HICKEY, DEBORAH | SENIOR DEPUTY ASSISTANT DIRECTOR, CORRECTIONAL PROGRAMS DIVISION.
EICHENLAUB, LOUIS C. | REGIONAL DIRECTOR, MIDDLE ATLANTIC REGION.
QUINTANA, FRANCISCO J. | WARDEN, FMC, LEXINGTON, KY.
HOLLAND, JAMES | WARDEN, FCI, MANCHESTER, KY.
HOGSTEN, KAREN F. | WARDEN, FCI, MCDOWELL, WV.
IVES, RICHARD B. | WARDEN, USP, MCCREARY, KY.
CARAWAY, JOHN | WARDEN, FCI, CUMBERLAND, MD.
REVELL, SARA M. | COMPLEX WARDEN-FMC, FCC, BUTNER, NC.
STEPHENS, DELORES | WARDEN, FCI, MEMPHIS, TN.
ZYCH, CHRISTOPHER | WARDEN, USP, LEE COUNTY, VA.
WILSON, ERIC D. | COMPLEX WARDEN, FCC, PETERSBURG, VA.
ZIEGLER, JOEL | WARDEN, FCI, BECKLEY, WV.
O'BRIEN, TERENCE T. | WARDEN, USP, HAZELTON, WV.
LAIRD, PAUL A. | REGIONAL DIRECTOR, NORTH CENTRAL REGION.
DANIELS, CHARLES A. | WARDEN-USP, FCC, FLORENCE, CO.
BERKEBILE, DAVID | COMPLEX WARDEN, FCC, FLORENCE, CO.
CROSS JR., JAMES. | WARDEN, FCI, GREENVILLE, IL.
WARNER, WENDY J. | WARDEN, USP, MARION, IL.
RIOS, RICARDO | WARDEN, FCI, PEKIN, IL.
MAYE, CLAUDE | WARDEN, USP, LEAVENWORTH, KS.
JETT, BRIAN R. | WARDEN, FMC, ROCHESTER, MN.
WERLINGER, ROBERT | WARDEN, FCI, OXFORD, WI.
NORWOOD, JOSEPH L. | REGIONAL DIRECTOR, NORTHEAST REGION.
GRONDOLSKY, JEFF F. | WARDEN, FMC, DEVENS, MA.
SCHULT, DEBORAH G. | WARDEN, FCI, BERLIN, NH.
SHARTLE, JOHN T. | WARDEN, FCI, FAIRTON, NJ.
ZICKEFOOSE, DONNA R. | WARDEN, FCI, FORT DIX, NJ.
HASTINGS, SUZANNE R. | WARDEN, MCC, NEW YORK, NY.
BILLINGSLEY, TERRY L. | WARDEN, FCI, OTISVILLE, NY.
HOLT, RONNIE R. | WARDEN, FCC, ALLENWOOD, PA.
EBBERT, DAVID | WARDEN, USP, CANAAN, PA.
THOMAS, JEFFREY E. | WARDEN, USPI, LEWISBURG, PA.
MEEKS, BOBBY | WARDEN, FCI, MCKEAN, PA.
HUFFORD, HOWARD L. | WARDEN, FCI, SCHUYLKILL, PA.
MALDONADO JR., GERARDO | REGIONAL DIRECTOR, SOUTH CENTRAL REGION.
YOUNG JR., JOSEPH P. | COMPLEX WARDEN, FCC, OAKDALE, LA.
MARTINEZ, RICARDO | COMPLEX WARDEN, FCC, POLLUCK, LA.
UPTON, JODY | WARDEN, FCI, EL RENO, OK.
KASTNER, PAUL A. | WARDEN, FTC, OKLAHOMA CITY, OK.
FOX, JOHN B. | COMPLEX WARDEN-USP2, FCC, BEAUMONT, TX.
KEFFER, JOSEPH | WARDEN, FMC, CARSWELL, TX.
ROY, KEITH | WARDEN, FCI, THREE RIVERS, TX.
HOLT, RAYMOND E. | REGIONAL DIRECTOR, SOUTHEAST REGION.
RATHMAN, JOHN T. | WARDEN, FCI, TALLADEGA, AL.
JARVIS, TAMYRA | COMPLEX WARDEN-USP2, FCC, COLEMAN, FL.
LOCKETT, CHARLES L. | WARDEN-USP, COLEMAN 1, COLEMAN, FL.
AUGUSTINE, PAIGE A. | WARDEN, FCI MARIANNA, FL.
TAYLOR, WILLIAM | WARDEN, FDC, MIAMI, FL.
KELLER, JEFFERY A. | WARDEN, USP, ATLANTA, GA.
HAYNES, ANTHONY | WARDEN, FCI, JESUP, GA.
LONGLEY, ARCHELAUS | COMPLEX WARDEN, FCC, YAZOO CITY, MS.
DREW, DARLENE | WARDEN, FCI, BENNETTSVILLE, SC.
ATKINSON, KENNETH R. | WARDEN, FCI, EDGEFIELD, SC.
RIVERA, MILDRED | WARDEN, FCI, ESTILL, SC.
MARTINEZ, JERRY C. | WARDEN, MDC, GUAYNABO, PUERTO RICO.
CASTILLO, JUAN D. | REGIONAL DIRECTOR, WESTERN REGION.
SMITH, DENNIS R. | WARDEN, FCI, PHOENIX, AZ.
APKER JR., LIONEL C. | COMPLEX WARDEN-USP, FCC, TUCSON, AZ.
COPENHAVER, PAUL J. | WARDEN, USP, ATWATER, CA.
BABCOCK, MIKE H. | WARDEN, FCI, HERLONG, CA.
SANDERS, LINDA L. | COMPLEX WARDEN, FCC, LOMPOC, CA.
THOMAS, LINDA | WARDEN, MDC, LOS ANGELES, CA.
MCGREW, LINDA T. | COMPLEX WARDEN, FCC, VICTORVILLE, CA.
Civil Division—CIV
BRINKMANN, BETH S. | DEPUTY ASSISTANT ATTORNEY GENERAL.
GERSHENGORN, IAN H. | DEPUTY ASSISTANT ATTORNEY GENERAL.
FRIMPONG, MAAME | DEPUTY ASSISTANT ATTORNEY GENERAL.
HAUCK, BRIAN | DEPUTY ASSISTANT ATTORNEY GENERAL.
ANDERSON, DANIEL R | DEPUTY DIRECTOR, COMMERCIAL LITIGATION BRANCH.
ZWICK, KENNETH L. | DIRECTOR, OFFICE OF MANAGEMENT PROGRAMS.
BAXTER, FELIX V. | BRANCH DIRECTOR.
BRANDA, JOYCE R. | DIRECTOR, COMMERCIAL LITIGATION BRANCH.
COPPOLINO, ANTHONY J. | SPECIAL LITIGATION COUNSEL.
DAVIDSON, JEANNE E. | DIRECTOR, COMMERCIAL LITIGATION BRANCH.
SNEE, BRYANT G. | DEPUTY DIRECTOR, COMMERCIAL LITIGATION BRANCH.
FARGO, JOHN J. | DIRECTOR, COMMERCIAL LITIGATION BRANCH.
FROST, PETER F. | DIRECTOR, AVIATION AND ADMIRALTY SECTION.
BHATTACHARYA, RUPA | DIRECTOR, CONSTITUTIONAL AND SPECIALIZED TORT LITIGATION SECTION.
GLYNN, JOHN PATRICK | DIRECTOR, ENVIRONMENTAL TORT LITIGATION SECTION.
GRANSTON, MICHAEL D. | DEPUTY DIRECTOR, COMMERCIAL LITIGATION BRANCH.
HAUSKEN, GARY L. | SENIOR PATENT ATTORNEY.
HOLLIS, ROBERT MARK | DIRECTOR, COMMERCIAL LITIGATION BRANCH.
HUGHES, TODD M. | DEPUTY DIRECTOR, COMMERCIAL LITIGATION BRANCH.
HUNT, JOSEPH H. | BRANCH DIRECTOR.
GARVEY, VINCENT M. | DEPUTY BRANCH DIRECTOR.
SHAPIRO, ELIZABETH J. | DEPUTY BRANCH DIRECTOR.
HUSSEY, THOMAS W. | SPECIAL IMMIGRATION COUNSEL.
COLLETTE, MATTHEW. | DEPUTY DIRECTOR, APPELLATE STAFF.
KIRSCHMAN JR., ROBERT E. | DEPUTY DIRECTOR, COMMERCIAL LITIGATION BRANCH.
KLINE, DAVID J. | DIRECTOR, OFFICE OF IMMIGRATION LITIGATION, DISTRICT COURT.
KOHN, J. CHRISTOPHER | DIRECTOR, COMMERCIAL LITIGATION BRANCH.
LETTER, DOUGLAS | DIRECTOR, APPELLATE STAFF.
STERN, MARK B. | APPELLATE LITIGATION COUNSEL.
BIDDLE, BARBARA | DEPUTY DIRECTOR, APPELLATE BRANCH.
LIEBER, SHEILA M. | DEPUTY BRANCH DIRECTOR.
LOEB, ROBERT M. | SENIOR LEVEL APELLATE COUNSEL.
MCCONNELL, DAVID M. | DIRECTOR, OFFICE OF IMMIGRATION LITIGATION, APPELLATE SECTION.
MCINTOSH, SCOTT R. | SENIOR LEVEL APELLATE COUNSEL.
O'MALLEY, BARBARA B. | SPECIAL LITIGATION COUNSEL, AVIATION AND ADMIRALTY SECTION.
PYLES, PHYLLIS J. | DIRECTOR, FEDERAL TORT CLAIMS ACT SECTION.
RICKETTS, JENNIFER D. | BRANCH DIRECTOR.
ROGERS, MARK W. | SENIOR TRIAL ATTORNEY, CONSTITUTIONAL SECTION.
RUDY, SUSAN K. | SENIOR TRIAL ATTORNEY.
STEMPLEWICZ, JOHN | SENIOR TRIAL ATTORNEY.
BLUME, MICHAEL | DIRECTOR, CONSUMER PROTECTION BRANCH.
KISOR, COLIN | SENIOR TRIAL ATTORNEY, OFFICE OF IMMIGRATION LITIGATION.
LATOUR, MICHELLE | DEPUTY DIRECTOR, OFFICE OF IMMIGRATION LITIGATION, APPELLATE SECTION.
Civil Rights Division—CRT
SAMUELS, JOCELYN | PRINCIPAL DEPUTY ASSISTANT ATTORNEY GENERAL.
AUSTIN, ROY | DEPUTY ASSISTANT ATTORNEY GENERAL.
FRIEL, GREGORY | DEPUTY ASSISTANT ATTORNEY GENERAL.
COLANGELO, MATTHEW | DEPUTY ASSISTANT ATTORNEY GENERAL.
SCHULTZ, VICTORIA | DEPUTY ASSISTANT ATTORNEY GENERAL.
GINSBURG, JESSICA A. | COUNSEL TO THE ASSISTANT ATTORNEY GENERAL.
MCCONKEY, MILTON | EXECUTIVE OFFICER.
KENNEBREW, DELORA | CHIEF, EMPLOYMENT LITIGATION SECTION.
KAPPELHOFF, MARK JOHN | CHIEF, CRIMINAL SECTION.
MOOSSY, ROBERT J. | PRINCIPAL DEPUTY CHIEF, CRIMINAL SECTION.
KOWALSKI, BARRY F. | SPECIAL LEGAL COUNSEL.
BHARGAVA, ANURIMA | CHIEF, EDUCATIONAL OPPORTUNITIES SECTION.
ROSENBAUM, STEVEN H. | CHIEF, HOUSING AND CIVIL ENFORCEMENT SECTION.
JANG, DEEANA L. | CHIEF, COORDINATION AND REVIEW SECTION.
HERREN JR., THOMAS C. | CHIEF, VOTING SECTION.
WERTZ, REBECCA | PRINCIPAL DEPUTY CHIEF, VOTING SECTION.
FLYNN, DIANA KATHERINE | CHIEF, APPELLATE SECTION.
GROSS, MARK L. | COMPLAINT ADJUDICATION OFFICER.
SILVER, JESSICA D. | SENIOR APPELLATE COUNSEL.
NICHOL, ALLISON | CHIEF, DISABILITY RIGHTS SECTION.
FORAN, SHEILA | SPECIAL LEGAL COUNSEL, DISABILITY RIGHTS.
SMITH, JONATHAN M. | CHIEF, SPECIAL LITIGATION SECTION.
BROWN-CUTLAR, SHANETTA Y. | COUNSEL TO THE SPECIAL LITIGATION SECTION CHIEF.
Criminal Division—CRM
RAMAN, MYTHILI | PRINCIPAL DEPUTY ASSISTANT ATTORNEY GENERAL & CHIEF OF STAFF.
BLANCO, KENNETH A. | DEPUTY ASSISTANT ATTORNEY GENERAL.
BROWN, MARY PATRICE | DEPUTY ASSISTANT ATTORNEY GENERAL.
WEINSTEIN, JASON | DEPUTY ASSISTANT ATTORNEY GENERAL.
SWARTZ, BRUCE CARLTON | DEPUTY ASSISTANT ATTORNEY GENERAL.
AINSWORTH, PETER J. | SENIOR COUNSEL, OFFICE OF OVERSEAS PROSECUTORIAL DEVELOPMENT ASSISTANCE AND TRAINING.
ALEXANDRE, CARL | DIRECTOR, OPDAT.
CALVERY, JENNIFER | CHIEF, ASSET FORFEITURE AND MONEY LAUNDERING SECTION.
CARROLL, OVIE | DIRECTOR, CYBERCRIME LABORATORY, COMPUTER CRIME AND INTELLECTUAL PROPERTY SECTION.
CARWILE, P. KEVIN | CHIEF, CAPITAL CASE UNIT.
LYNCH JR., JOHN T. | CHIEF, COMPUTER CRIME, AND INTELLECTUAL PROPERTY SECTION.
FELTON, KATHLEEN A. | DEPUTY CHIEF, APPELLATE SECTION.
HULSER, RAYMOND | DEPUTY CHIEF, PUBLIC INTEGRITY SECTION.
JONES, JOSEPH M. | SENIOR COUNSEL FOR INTERNATIONAL DEVELOPMENT AND TRAINING.
KING, DAMON A. | SENIOR LITIGATION COUNSEL, CHILD EXPLOITATION AND OBSCENITY SECTION.
KNOX, JEFFREY H. | DEPUTY CHIEF FOR LITIGATION.
MASCHINO, KARL J. | EXECUTIVE OFFICER.
MCHENRY, TERESA L. | CHIEF, HUMAN RIGHTS AND SPECIAL PROSECUTIONS SECTION.
MCINERNEY, DENIS J. | CHIEF, FRAUD SECTION.
MORRIS, BRENDA K. | SENIOR LITIGATION COUNSEL.
O'BRIEN, PAUL M. | DIRECTOR, OFFICE OF ENFORCEMENT OPERATIONS.
OHR, BRUCE G. | COUNSELOR FOR TRANSNATIONAL ORGANIZED CRIME AND INTERNATIONAL AFFAIRS.
OOSTERBAAN, ANDREW | CHIEF, CHILD EXPLOITATION AND OBSCENITY SECTION.
PAINTER, CHRISTOPHER M. | SENIOR COUNSEL FOR CYBERCRIME.
POPE, AMY | COUNSELOR TO THE ASSISTANT ATTORNEY GENERAL.
RAABE, WAYNE C. | DEPUTY CHIEF, NARCOTIC AND DANGEROUS DRUG SECTION.
RAMASWAMY, JAIKUMAR | DEPUTY CHIEF, ASSET FORFEITURE AND MONEY LAUNDERING SECTION.
ROBINSON, STEWART C. | SENIOR JUSTICE FOR THE EUROPEAN UNION AND INTERNATIONAL CRIMINAL MATTERS.
RODRIGUEZ, MARY D. | DEPUTY DIRECTOR, OFFICE OF INTERNATIONAL AFFAIRS.
ROSENBAUM, ELI M. | DIRECTOR, HUMAN RIGHTS ENFORCEMENT STRATEGY AND POLICY.
SMITH, JOHN “JACK” L. | CHIEF, PUBLIC INTEGRITY SECTION.
STEMLER, PATTY MERKAMP | CHIEF, APPELLATE SECTION.
TREVILLIAN IV, ROBERT C. | DIRECTOR, INTERNATIONAL CRIMINAL INVESTIGATIVE TRAINING ASSISTANCE PROGRAM.
TRUSTY, JAMES | CHIEF, ORGANIZED CRIME AND GANG SECTION.
WARLOW, MARY ELLEN | DIRECTOR, OFFICE OF INTERNATIONAL AFFAIRS.
WEBB, JANET D. | DEPUTY DIRECTOR, OFFICE OF ENFORCEMENT OPERATIONS.
WROBLEWSKI, JONATHAN J. | DIRECTOR, OFFICE OF POLICY AND LEGISLATION.
WYATT, ARTHUR G. | CHIEF, NARCOTIC AND DANGEROUS DRUG SECTION.
WYDERKO, JOSEPH | SENIOR COUNSEL FOR APPEALS, APPELLATE SECTION.
Environmental and Natural Resources Division—ENRD
DREHER, ROBERT E. | PRINCIPAL DEPUTY ASSISTANT ATTORNEY GENERAL.
SHENKMAN, ETHAN | DEPUTY ASSISTANT ATTORNEY GENERAL.
WILLIAMS, JEAN E. | DEPUTY ASSISTANT ATTORNEY GENERAL (ENVIRONMENTAL CRIMES AND WILDLIFE AND MARINE RESOURCES SECTIONS).
SILVERMAN, STEVEN | DEPUTY ASSISTANT ATTORNEY GENERAL.
GELBER, BRUCE S. | DEPUTY ASSISTANT ATTORNEY GENERAL.
ALEXANDER, S. CRAIG | CHIEF, INDIAN RESOURCES SECTION.
BARSKY, SETH | CHIEF, WILDLIFE AND MARINE RESOURCES.
CLARK II, TOM C. | DEPUTY CHIEF, NATURAL RESOURCES SECTION.
COLLIER, ANDREW | EXECUTIVE OFFICER.
DISHEROON, FRED R. | SENIOR LITIGATION COUNSEL ATTORNEY EXAMINER.
FERGUSON, CYNTHIA | SENIOR LITIGATOR, ENVIRONMENTAL JUSTICE.
FISHEROW, W. BENJAMIN | DEPUTY CHIEF, ENVIRONMENTAL ENFORCEMENT SECTION.
GELDERMANN, EDWARD S. | SENIOR LITIGATOR, NATURAL COUNSEL, NATURAL RESOURCES SECTION.
GETTE, JAMES | DEPUTY CHIEF, NATURAL RESOURCES SECTION.
GOLDFRANK, ANDREW M. | CHIEF, LAND ACQUISITION SECTION.
GRISHAW, LETITIA J. | CHIEF, ENVIRONMENTAL DEFENSE SECTION.
HOANG, ANTHONY P. | SENIOR LITIGATION COUNSEL, NATURAL RESOURCES.
KILBOURNE, JAMES C. | CHIEF, APPELLATE SECTION.
MAHAN, ELLEN M. | DEPUTY CHIEF, ENVIRONMENTAL ENFORCEMENT SECTION.
MERGEN, ANDREW | DEPUTY CHIEF, APPELLATE SECTION.
MITCHELL, STACEY H. | CHIEF, ENVIRONMENTAL CRIMES SECTION.
RUSSELL, LISA L. | CHIEF, NATURAL RESOURCES SECTION.
STEWART, HOWARD P. | SENIOR LITIGATION COUNSEL.
TENENBAUM, ALAN S. | SENIOR LITIGATION COUNSEL, ENVIRONMENTAL ENFORCEMENT.
VADEN, CHRISTOPHER S. | DEPUTY CHIEF, ENVIRONMENTAL DEFENSE SECTION.
WARDZINSKI, KAREN M. | CHIEF, LAW AND POLICY SECTION.
Executive Office for Immigration Review—EOIR
OSUNA, JUAN P. | DIRECTOR.
ADKINS-BLANCH, CHARLES K. | ATTORNEY EXAMINER.
COLE, PATRICIA A. | ATTORNEY EXAMINER.
CREPPY, MICHAEL | ATTORNEY EXAMINER.
MANN, ANA | ATTORNEY EXAMINER.
ESPENOZA, CECELIA MARIE | SENIOR ASSOCIATE GENERAL COUNSEL.
GRANT, EDWARD R. | ATTORNEY EXAMINER.
GREER, ANNE J. | ATTORNEY EXAMINER.
GUENDELSBERGER, JOHN W. | ATTORNEY EXAMINER.
HOLMES, DAVID B. | ATTORNEY EXAMINER.
MALPHRUS, GARRY D. | ATTORNEY EXAMINER.
MILLER, NEIL P. | ATTORNEY EXAMINER.
MULLANE, HUGH G. | ATTORNEY EXAMINER.
NEAL, DAVID | CHAIRMAN, BOARD OF IMMIGRATION APPEALS.
O'LEARY, BRIAN M. | CHIEF IMMIGRATION JUDGE.
PAULEY, ROGER ANDREW | ATTORNEY EXAMINER.
SCHMIDT, PAUL W. | SENIOR IMMIGRATION JUDGE.
STUTMAN, ROBIN M. | CHIEF ADMINISTRATIVE HEARING OFFICER.
WENDTLAND, LINDA S. | ATTORNEY EXAMINER.
Executive Office for Organized Crime Drug Enforcement Task Forces—OCDETF
DINAN, JAMES H. | EXECUTIVE DIRECTOR.
PADDEN, THOMAS W. | DEPUTY DIRECTOR, OCDETF.
Executive Office for U.S. Attorneys—EOUSA
JARRETT, HOWARD MARSHALL | DIRECTOR.
WILKINSON, ROBERT M. | PRINCIPAL DEPUTY AND CHIEF OF STAFF.
BELL, SUZANNE L. | DEPUTY DIRECTOR.
GUGULIS, KATHERINE C. | DEPUTY DIRECTOR ADMINISTRATION.
BEVELS, LISA A. | CHIEF FINANCIAL OFFICER.
FLESHMAN, JAMES MARK | CHIEF INFORMATION OFFICER.
CHANDLER, CAMERON G. | ASSOCIATE DIRECTOR, OFFICE OF LEGAL EDUCATION.
GIBSON, WAYNE | CHIEF OF PLANNING, EVALUATION AND PERFORMANCE.
MACKLIN, JAMES | GENERAL COUNSEL.
SMITH, DAVID L. | COUNSEL FOR LEGAL INITIATIVES.
SUDDES, PAUL | PROJECT MANAGER—PALMETTO PROJECT.
VILLEGAS, DANIEL A. | COUNSEL, LEGAL PROGAMS AND POLICY.
WISH, JUDITH | SPECIAL COUNSEL TO THE PRINCIPAL DEPUTY DIRECTOR.
WONG, NORMAN Y. | DEPUTY DIRECTOR AND COUNSEL TO THE DIRECTOR.
Executive Office for U.S. Trustees—EOUST
WHITE III, CLIFFORD J. | DIRECTOR.
CREWSON, PHILIP E. | DEPUTY DIRECTOR MANAGEMENT.
ELLIOTT, RAMONA D. | DEPUTY DIRECTOR GENERAL COUNSEL.
REDMILES, MARK A. | COUNSEL TO THE DIRECTOR.
Justice Management Division—JMD
LOFTHUS, LEE J. | ASSISTANT ATTORNEY GENERAL FOR ADMINISTRATION.
SANTANGELO, MARI BARR | DEPUTY ASSISTANT ATTORNEY GENERAL FOR HUMAN RESOURCES AND ADMINISTRATION (CHCO).
ALLEN, MICHAEL H. | DEPUTY ASSISTANT ATTORNEY GENERAL FOR POLICY, MANAGEMENT, AND PLANNING, AND CHIEF OF STAFF.
LAURIA-SULLENS, JOLENE A. | DEPUTY ASSISTANT ATTORNEY GENERAL/CONTROLLER.
MCCORMACK, LUKE | DEPUTY ASSISTANT ATTORNEY GENERAL FOR IT MANAGEMENT/CIO.
GARY, ARTHUR | GENERAL COUNSEL.
ALVAREZ, CHRISTOPHER C. | DEPUTY DIRECTOR (AUDITING), FINANCE STAFF.
ATSATT, MARILYNN B. | DEPUTY DIRECTOR, BUDGET STAFF, PROGRAMS AND PERFORMANCE.
BEASLEY, ROGER | DIRECTOR, OPERATIONS SERVICES STAFF.
CLAREY, KATHRYN L. | SPECIAL ADVISOR FOR FINANCIAL MANAGEMENT INFORMATION TECHNOLOGY.
DEELEY, KEVIN | DEPUTY CHIEF INFORMATION OFFICER FOR IT SECURITY.
DEFALAISE, LOUIS | DIRECTOR, OFFICE OF ATTORNEY RECRUITMENT AND MANAGEMENT.
DUNLAP, JAMES L. | DIRECTOR, SECURITY AND EMERGENCY PLANNING STAFF.
FELDT, DENNIS G. | DIRECTOR, LIBRARY STAFF.
HOLTGREWE, KENT L. | DIRECTOR, IT POLICY AND PLANNING STAFF.
JOHNSTON, JAMES W. | DIRECTOR, PROCUREMENT SERVICES STAFF.
JORDAN, WYEVETRA | APPROPRIATION LIAISON OFFICER.
MORGAN, MELINDA B. | DIRECTOR, FINANCE STAFF.
MURRAY, JOHN W. | DIRECTOR, ENTERPRISE SOLUTIONS STAFF.
COOK, TERENCE L. | DIRECTOR, HUMAN RESOURCES.
NORRIS, J. TREVOR | DEPUTY DIRECTOR, HUMAN RESOURCES.
O'BRIEN, HOLLEY | DIRECTOR, DEBT COLLECTION MANAGEMENT STAFF.
OLDS, CANDACE A. | DIRECTOR, ASSET FORFEITURE MANAGEMENT STAFF.
O'LEARY, KARIN | DIRECTOR, BUDGET STAFF.
SUTTON, JEFFREY W. | DEPUTY DIRECTOR, BUDGET STAFF, OPERATIONS AND FUNDS CONTROL.
OLSON, ERIC R. | DEPUTY, CHIEF INFORMATION OFFICER FOR E-GOVERNMENT SERVICES STAFF.
RODGERS, JANICE M. | DIRECTOR, DEPARTMENTAL ETHICS OFFICE.
TOSCANO JR., RICHARD A. | DIRECTOR, EQUAL EMPLOYMENT OPPORTUNITY STAFF.
National Security Division—NSD
CARLIN, JOHN | PRINCIPAL DEPUTY ASSISTANT ATTORNEY GENERAL AND CHIEF OF STAFF.
WIEGMANN, JOHN B. | DEPUTY ASSISTANT ATTORNEY GENERAL, OFFICE OF LAW AND POLICY.
GAUHAR, TASHINA | DEPUTY ASSISTANT ATTORNEY GENERAL.
TOSCAS, GEORGE Z. | DEPUTY ASSISTANT ATTORNEY GENERAL (COUNTERESPIONAGE-COUNTERTERRORISM).
BRADLEY, MARK A. | SPECIAL COUNSEL FOR OVERSIGHT SECTION.
DION, JOHN J. | CHIEF, COUNTERESPIONAGE SECTION.
DUNNE, STEVEN M. | CHIEF, APPELLATE UNIT.
EVANS, STUART | DEPUTY CHIEF, OPERATIONS SECTION.
KAYE, JANICE A. | ETHICS OFFICER.
KEEGAN, MICHAEL | DEPUTY CHIEF, COUNTERTERRORISM SECTION.
KENNEDY, J. LIONEL | SPECIAL COUNSEL FOR NATIONAL SECURITY.
MULLANEY, MICHAEL J. | CHIEF, COUNTERTERRORISM SECTION.
O'CONNOR, KEVIN | CHIEF, OVERSIGHT SECTION.
PELAK, STEVEN W. | DEPUTY CHIEF, COUNTERESPIONAGE SECTION.
SANZ-REXACH, GABRIEL | CHIEF, OPERATIONS SECTION.
Office of Community Oriented Policing Services—COPS
MELEKIAN, BERNARD K. | DIRECTOR.
EDERHEIMER, JOSHUA A. | PRINCIPAL DEPUTY DIRECTOR.
Office of Information Policy—OIP
PUSTAY, MELANIE ANN | DIRECTOR.
Office of the Inspector General—OIG
SCHNEDAR, CYNTHIA A. | DEPUTY INSPECTOR GENERAL.
BEAUDET, RAYMOND J. | ASSISTANT INSPECTOR GENERAL FOR AUDIT.
BLIER, WILLIAM M. | GENERAL COUNSEL.
DORSETT, GEORGE L. | DEPUTY ASSISTANT INSPECTOR GENERAL FOR INVESTIGATIONS.
FORTINE OCHOA, CAROL | ASSISTANT INSPECTOR GENERAL FOR OVERSIGHT AND REVIEW.
MARSKE, CARYN A. | DEPUTY ASSISTANT INSPECTOR GENERAL FOR AUDIT.
MCLAUGHLIN, THOMAS F. | ASSISTANT INSPECTOR GENERAL INVESTIGATIONS.
PETERS, GREGORY T. | ASSISTANT INSPECTOR GENERAL FOR MANAGEMENT AND PLANNING.
LERNER, JAY | SENIOR COUNSEL TO THE INSPECTOR GENERAL.
Office of Justice Programs—OJP
LEARY, MARY LOU | PRINCIPAL DEPUTY ASSISTANT ATTORNEY GENERAL.
BURCH II, JAMES H. | DEPUTY ASSISTANT ATTORNEY GENERAL OPERATIONS MANAGEMENT.
AYERS, NANCY LYNN | DEPUTY ADMINISTRATOR FOR POLICY, OJJDP.
FROST, JOYE | DEPUTY DIRECTOR, OFFICE FOR VICTIMS OF CRIME.
GARRY, EILEEN M. | DEPUTY DIRECTOR FOR PLANNING, BUREAU OF JUSTICE ASSISTANCE.
TRAUTMAN, TRACEY | DEPUTY DIRECTOR FOR PROGRAMS, BUREAU OF JUSTICE ASSISTANCE.
GREENHOUSE, DENNIS E. | DIRECTOR, COMMUNITY CAPACITY DEVELOPMENT OFFICE.
HANES, MELODEE | PRINCIPAL DEPUTY ADMINISTRATOR, OFFICE OF JUVENILE JUSTICE AND DELINQUENCY PREVENTION.
FEUCHT, THOMAS E. | EXECUTIVE SCIENCE ADVISOR, NATIONAL INSTITUTE OF JUSTICE.
HENNEBERG, MAUREEN A. | DIRECTOR, OFFICE OF AUDIT, ASSESSMENT, AND MANAGEMENT.
IWANOW, WALTER | CHIEF INFORMATION OFFICER.
MADAN, RAFAEL A. | GENERAL COUNSEL.
MAHONEY, KRISTEN | DEPUTY DIRECTOR, POLICY MANAGEMENT, BUREAU OF JUSTICE ASSISTANCE.
MERKLE, PHILLIP | DIRECTOR, OFFICE OF ADMINISTRATION.
ROBERTS, MARILYN M. | DEPUTY ADMINISTRATOR FOR PROGRAMS, OJJDP.
SABOL, WILLIAM | DEPUTY DIRECTOR, BUREAU OF JUSTICE STATISTICS.
RIDGEWAY, GREG | DEPUTY DIRECTOR, NATIONAL INSTITUTE OF JUSTICE, OFFICE OF SCIENCE AND TECHNOLOGY.
BALDWIN, LINDA | SMART COORDINATOR.
BENDA, BONNIE LEIGH | CHIEF FINANCIAL OFFICER.
MARTIN, RALPH | DEPUTY CHIEF FINANCIAL OFFICER.
BECK, ALLEN J. | SENIOR STATISTICIAN.
Office of Legal Counsel—OLC
KRASS, CAROLINE DIANE | PRINCIPAL DEPUTY ASSISTANT ATTORNEY GENERAL.
KOFFSKY, DANIEL L. | DEPUTY ASSISTANT ATTORNEY GENERAL.
RODRIGUEZ, CRISTINA | DEPUTY ASSISTANT ATTORNEY GENERAL.
BIES, JOHN | DEPUTY ASSISTANT ATTORNEY GENERAL.
THOMPSON, KARL R. | DEPUTY ASSISTANT ATTORNEY GENERAL.
MIZER, BENJAMIN | DEPUTY ASSISTANT ATTORNEY GENERAL.
COLBORN, PAUL P. | SPECIAL COUNSEL.
HART, ROSEMARY A. | SPECIAL COUNSEL.
SINGDAHLSEN, JEFFREY P. | SENIOR COUNSEL.
Office of Legal Policy—OLP
TYRANGIEL, ELANA | PRINCIPAL DEPUTY ASSISTANT ATTORNEY GENERAL.
JONES, KEVIN ROBERT | DEPUTY ASSISTANT ATTORNEY GENERAL.
THIEMANN, ROBYN L. | DEPUTY ASSISTANT ATTORNEY GENERAL.
MELSON, KENNETH | SENIOR ADVISOR.
ZUBRENSKY, MICHAEL | DEPUTY ASSISTANT ATTORNEY GENERAL.
KARP, DAVID J. | SENIOR COUNSEL.
JACOBS, JOANNA | SENIOR COUNSEL FOR ALTERNATIVE DISPUTE RESOLUTION.
Office of Legislative Affairs—OLA
AGRAST, MARK D. | DEPUTY ASSISTANT ATTORNEY GENERAL.
APPELBAUM, JUDITH C. | DEPUTY ASSISTANT ATTORNEY GENERAL.
BURTON, M. FAITH | SPECIAL COUNSEL.
ROBERSON, PORTIA L. | DIRECTOR, OFFICE OF INTERGOVERNMENTAL AND PUBLIC LIAISON.
Office of Professional Responsibility—OPR
ASHTON, ROBIN | COUNSEL FOR PROFESSIONAL RESPONSIBILITY.
WEINSHEIMER, G. BRADLEY | DEPUTY COUNSEL ON PROFESSIONAL RESPONSIBILITY.
Office of Public Affairs—PAO
SCHMALER, TRACY | DIRECTOR.
Office of the Federal Detention Trustee—OFDT
PEARSON, MICHAEL A. | FEDERAL DETENTION TRUSTEE.
MUSEL, DAVID F. | DIRECTOR, JPATS.
VARGO, BRUCE E. | SENIOR ADVISOR (DEPUTY).
Office of the Pardon Attorney—OPA
RODGERS, RONALD L. | PARDON ATTORNEY.
Office on Violence Against Women—OVW
HANSON, BEATRICE | PRINCIPAL DEPUTY DIRECTOR.
Professional Responsibility Advisory Office—PRAO
DUNSTON, JERRI U. | DIRECTOR.
Tax Division—TAX
DICICCO, JOHN | DEPUTY ASSISTANT ATTORNEY GENERAL.
CIMINO, RONALD ALLEN | DEPUTY ASSISTANT ATTORNEY GENERAL.
ASHFORD, TAMARA | DEPUTY ASSISTANT ATTORNEY GENERAL.
BALLWEG, MITCHELL J. | CHIEF, CRIMINAL ENFORCEMENT SECTION, WESTERN REGION.
CIHLAR, FRANK P. | CHIEF, CRIMINAL APPEALS AND TAX ENFORCEMENT POLICY SECTION.
DONOHUE, DENNIS M. | SENIOR LITIGATION COUNSEL.
PINCUS, DAVID | CHIEF, COURT OF FEDERAL CLAIMS SECTION.
GIBSON, STUART D. | SENIOR TRIAL ATTORNEY.
HAGLEY, JUDITH | SENIOR TRIAL ATTORNEY.
HARTT III, GROVER | SENIOR TRIAL ATTORNEY.
HEALD, SETH G. | CHIEF, CIVIL TRIAL SECTION, CENTRAL REGION.
HUBBERT, DAVID A. | CHIEF, CIVIL TRIAL SECTION, EASTERN REGION.
HYTKEN, LOUISE P. | CHIEF, CIVIL TRIAL SECTION, SOUTHWESTERN REGION.
JOHNSON, CORY | SENIOR TRIAL ATTORNEY.
KEARNS, MICHAEL J. | CHIEF, CIVIL TRIAL SECTION, SOUTHERN REGION.
KOVACEV, ROBERT | SENIOR TRIAL ATTORNEY.
LINDQUIST III, JOHN A. | SENIOR TRIAL ATTORNEY.
MELAND, DEBORAH | CHIEF, OFFICE OF REVIEW.
MULLARKEY, DANIEL P. | CHIEF, CIVIL TRIAL SECTION, NORTHERN REGION.
PAGUNI, ROSEMARY E. | CHIEF, CRIMINAL ENFORCEMENT SECTION, NORTHERN REGION.
ROTHENBERG, GILBERT S. | CHIEF, APPELLATE SECTION.
SALAD, BRUCE M. | CHIEF, CRIMINAL ENFORCEMENT SECTION, SOUTHERN REGION.
SAWYER, THOMAS | SENIOR TRIAL ATTORNEY.
SERGI, JOSEPH A. | SENIOR TRIAL ATTORNEY.
SHATZ, EILEEN M. | SPECIAL LITIGATION COUNSEL.
SMITH, COREY J. | SENIOR TRIAL ATTORNEY.
STEHLIK, NOREENE C. | SENIOR TRIAL ATTORNEY.
SULLIVAN, JOHN | SENIOR TRIAL ATTORNEY.
WARD, RICHARD | CHIEF, CIVIL TRIAL SECTION WESTERN REGION.
U.S. Marshals Service—USMS
DUDLEY, CHARLES C. | DEPUTY DIRECTOR.
AUERBACH, GERALD | GENERAL COUNSEL.
BROWN, SHANNON B. | ASSISTANT DIRECTOR, INFORMATION TECHNOLOGY.
FALLON, WILLIAM T. | ASSISTANT DIRECTOR, TRAINING.
HARLOW, DAVID | ASSISTANT DIRECTOR, INVESTIGATIVE OPERATIONS.
CAULK, CARL | ASSISTANT DIRECTOR FOR JUDICIAL SECURITY.
JONES, SYLVESTER E. | ASSISTANT DIRECTOR, WITNESS SECURITY.
MERTENS, STEVEN M. | ASSOCIATE DIRECTOR, ADMINISTRATION.
MORALES, EBEN | ASSISTANT DIRECTOR, ASSET FORFEITURE.
PROUT, MICHAEL J. | ASSISTANT DIRECTOR, OFFICE OF INSPECTION.
SNELSON, WILLIAM D. | ASSISTANT DIRECTOR, TACTICAL OPERATIONS.
O'BRIEN, CAROL | DEPUTY ASSISTANT DIRECTOR, ACQUISITION AND PROCUREMENT.
DOLAN, EDWARD | SPECIAL ASSISTANT FOR FINANCIAL SYSTEMS.

[FR Doc. 2012-23591 Filed 9-24-12; 8:45 am]

BILLING CODE 4410-NW-P